DEPARTMENT OF STATE

[Public Notice 8059]

30-Day Notice of Proposed Information Collection: Petition To Classify Special Immigrant as an Employee or Former Employee of the U.S. Government Abroad

ACTION: Notice of request for public comment and submission to OMB of proposed collection of information.

SUMMARY: The Department of State has submitted the information collection request described below to the Office of Management and Budget (OMB) for approval. In accordance with the Paperwork Reduction Act of 1995 we are requesting comments on this collection from all interested individuals and organizations.

DATE(S): Submit comments directly to the Office of Management and Budget (OMB) up to November 13, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Sydney Taylor, Office of Visa Services, U.S Department of State, 2401 E. Street NW., L-630, Washington, DC who may be reached at 202-663-3721.

SUPPLEMENTARY INFORMATION: • Title of Information Collection: Petition to Classify Special Immigrant Under INA 203(b)(4) as an employee or former employee of the U.S. Government Abroad

• OMB Control Number: 1405-0082

• Type of Request: Extension of a Currently Approved Collection

• Originating Office: CA/VO/L/R

• Form Number: DS-1884

• Respondents: Aliens petitioning for immigrant visas under INA 203(b)(4) as a special immigrant described in INA section 101(a)(27)(D)

• Estimated Number of Respondents: 300

• Estimated Number of Responses: 300

• Average Time per Response: 10 minutes

• Total Estimated Burden Time: 50 hours

• Frequency: Once per petition

• Obligation To Respond: Required to obtain benefits

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: DS-1884 solicits information from petitioners claiming employment-based immigrant visa preference under section 203(b)(4) of the Immigration and Nationality Act on the basis of qualification as a special immigrant described in INA section 101(a)(27)(D). A petitioner may file the DS-1884 petition within one year of notification by the Department of State that the Secretary has approved a recommendation that such special immigrant status be accorded to the alien. DS-1884 solicits information that will assist the consular officer in ensuring that the petitioner is statutorily qualified to receive such status, including meeting the years of service and exceptional service requirements.

Methodology: This form can be obtained from posts abroad or through the Department's eForms intranet site. The application available through eForms allows the applicant to complete the application online and then print the application. Most applicants are current federal government employees abroad and have access to the intranet system. Once the form is printed, it is submitted to post.

Dated: October 3, 2012.
Don Heflin,
Acting Deputy Assistant Secretary, Visa Services, Bureau of Consular Affairs, Department of State.

[FR Doc. 2012-25028 Filed 10-10-12; 8:45 am]

BILLING CODE 4710-06-P